DEPARTMENT OF HOMELAND SECURITY

Coast Guard

33 CFR Parts 1, 25, 66, 70, 72, 100, 110, 133, 135, 136, 137, 138, 155, 157, 161, 165, and 169

[Docket No. USCG-2009-0416]

RIN 1625-ZA23

Navigation and Navigable Waters; Technical, Organizational and Conforming Amendments

AGENCY: Coast Guard, DHS.

ACTION: Final rule.

SUMMARY: This rule makes non-substantive changes throughout Title 33 of the Code of Federal Regulations. The purpose of this rule is to make conforming amendments and technical corrections to Coast Guard navigation and navigable water regulations. This rule will have no substantive effect on the regulated public. These changes are provided to coincide with the annual recodification of Title 33 in July.

DATES: This final rule is effective June 10, 2009.

ADDRESSES: Comments and material received from the public, as well as the documents mentioned in this preamble as being available in the docket, are part of docket USCG-2009-0146 and are available for inspection or copying at the Docket Management Facility (M-30), U.S. Department of Transportation, West Building Ground Floor, Room W12-140, 1200 New Jersey Avenue, SE., Washington, DC 20590, between 9 a.m. and 5 p.m., Monday through Friday, except Federal holidays. You may also find this docket on the Internet by going to http://www.regulations.gov, selecting the Advanced Docket Search option on the right side of the screen, inserting USCG-2009-0416 in the Docket ID box, pressing Enter, and then clicking on the item in the Docket ID column.

FOR FURTHER INFORMATION CONTACT: If you have questions on this rule, call or e-mail LCDR Reed Kohberger, CG-5232, Coast Guard, telephone 202-372-1471, e-mail Reed.H.Kohberger@uscg.mil. If you have questions on viewing the docket, call Renee V. Wright, Program Manager, Docket Operations, telephone 202-366-9826.

SUPPLEMENTARY INFORMATION:

Table of Contents for Preamble

I. Regulatory History

II. Background

III. Discussion of Rule

IV. Regulatory Analyses

A. Regulatory Planning and Review

B. Small Entities

C. Assistance for Small Entities

D. Collection of Information

E. Federalism

F. Unfunded Mandates Reform Act

G. Taking of Private Property

H. Civil Justice Reform

I. Protection of Children

J. Indian Tribal Governments

K. Energy Effects

L. Technical Standards

M. Environment

I. Regulatory History

We did not publish a notice of proposed rulemaking (NPRM) for this regulation. Under both 5 U.S.C. 553(b)(A) and (b)(B), the Coast Guard finds this rule is exempt from notice and comment rulemaking requirements because these changes involve agency organization and practices. In addition, good cause exists for not publishing an NPRM for all revisions in the rule because they are all non-substantive changes. This rule consists only of corrections and editorial, organizational, and conforming amendments. These changes will have no substantive effect on the public; therefore, it is unnecessary to publish an NPRM. Under 5 U.S.C. 553(d)(3), the Coast Guard finds that, for the same reasons, good cause exists for making this rule effective upon publication in the Federal Register.

II. Background

Each year the printed edition of Title 33 of the Code of Federal Regulations is recodified on July 1. This rule, which becomes effective June 10, 2009, makes technical and editorial corrections throughout Title 33. This rule does not create any substantive requirements.

III. Discussion of Rule

This rule amends 33 CFR parts 1 and 100 to affirm and clarify the delegation of authority by the Commandant to Coast Guard Captains of the Port to issue special local regulations.

This rule updates Coast Guard headquarters and field office designations, telephone numbers, and Web site addresses. These updates are non-substantive and are located throughout 33 CFR parts 70, 133, 135, 136, 137, and 138. Part 100 is amended to correct typographical and grammatical errors.

This rule amends 33 CFR part 110 to standardize the format of latitude/longitude coordinates and better conform to the Government Printing Office (GPO) style.

The National Pollution Funds Center (NPFC) has changed the location within NPFC where a document entitled “Standard Practice for Environmental Site Assessments: Phase I Environmental Site Assessment Process”, may be viewed by the public. The document has been relocated from Suite 1013 to the NPFC Law Library in Suite 1000. This rule amends 33 CFR part 137 to provide the public with this new location.

The authorities for 33 CFR parts 133, 136, and 137 have changed as a result of the Coast Guard's transfer to the Department of Homeland Security in 2003. This rule amends 33 CFR parts 133, 136, and 137 to reflect recent changes in the statutory authorities and delegations governing NPFC program regulations.

IV. Regulatory Analyses

We developed this rule after considering numerous statutes and executive orders related to rulemaking. Below, we summarize our analyses based on 13 of these statutes or executive orders.

A. Regulatory Planning and Review

This rule is not a significant regulatory action under section 3(f) of Executive Order 12866, Regulatory Planning and Review, and does not require an assessment of potential costs and benefits under section 6(a)(3) of that Order. The Office of Management and Budget has not reviewed it under that Order.

B. Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

Therefore, the Coast Guard certifies under 5 U.S.C. 605(b) that this final rule will not have a significant economic impact on a substantial number of small entities.

C. Assistance for Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000. This rule does not require a general notice of proposed rulemaking and, therefore, is exempt from the requirements of the Regulatory Flexibility Act.

D. Collection of Information

This rule calls for no new collection of information under the Paperwork Reduction Act of 1995 (44 U.S.C. 3501-3520).

E. Federalism

A rule has implications for Federalism under Executive Order 13132, Federalism, if it has a substantial direct effect on State or local governments and would either preempt State law or impose a substantial direct cost of compliance on them. We have analyzed this rule under that Order and have determined that it does not have implications for Federalism.

F. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such expenditure, we do discuss the effects of this rule elsewhere in this preamble.

G. Taking of Private Property

This rule will not effect a taking of private property or otherwise have taking implications under Executive Order 12630, Governmental Actions and Interference with Constitutionally Protected Property Rights.

H. Civil Justice Reform

This rule meets applicable standards in sections 3(a) and 3(b)(2) of Executive Order 12988, Civil Justice Reform, to minimize litigation, eliminate ambiguity, and reduce burden.

I. Protection of Children

We have analyzed this rule under Executive Order 13045, Protection of Children from Environmental Health Risks and Safety Risks. This rule is not an economically significant rule and does not create an environmental risk to health or risk to safety that may disproportionately affect children.

J. Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

K. Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

L. Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

M. Environment

We have analyzed this rule under Department of Homeland Security Management Directive 023-01 and Commandant Instruction M16475.lD, which guide the Coast Guard in complying with the National Environmental Policy Act of 1969 (NEPA) (42 U.S.C. 4321-4370f), and have concluded that this action is one of a category of actions which do not individually or cumulatively have a significant effect on the human environment. Therefore, this rule is categorically excluded under section 2.B.2, figure 2-1, paragraph (34)(a) and (b) of the Instruction. This rule involves editorial, procedural, and internal agency functions. An environmental analysis checklist and a categorical exclusion determination are available in the docket where indicated under the ADDRESSES. We seek any comments or information that may lead to discovery of a significant environmental impact from this proposed rule.

List of Subjects

33 CFR Part 1

Administrative practice and procedure, Authority delegations (Government agencies), Freedom of information, Penalties.

33 CFR Part 25

Authority delegations (Government agencies), Claims.

33 CFR Part 66

Intergovernmental relations, Navigation (water), Reporting and recordkeeping requirements.

33 CFR Part 70

Navigation (water), Reporting and recordkeeping requirements.

33 CFR Part 72

Government publications, Navigation (water).

33 CFR Part 100

Marine safety, Navigation (water), Reporting and recordkeeping requirements, Waterways.

33 CFR Part 110

Anchorage grounds.

33 CFR Part 133

Intergovernmental relations, Oil pollution, Reporting and recordkeeping requirements.

33 CFR Part 135

Administrative practice and procedure, Continental shelf, Insurance, Oil pollution, Reporting and recordkeeping requirements.

33 CFR Part 136

Administrative practice and procedure, Advertising, Claims, Oil pollution, Penalties, Reporting and recordkeeping requirements.

33 CFR Part 137

Claims, Oil pollution, Penalties, Reporting and recordkeeping requirements.

33 CFR Part 138

Alaska, Hazardous substances, Oil pollution, Reporting and recordkeeping requirements.

33 CFR Part 155

Alaska, Hazardous substances, Oil pollution, Reporting and recordkeeping requirements.

33 CFR Part 157

Cargo vessels, Oil pollution, Reporting and recordkeeping requirements.

33 CFR Part 161

Harbors, Navigation (water), Reporting and recordkeeping requirements, Vessels, Waterways.

33 CFR Part 165

Harbors, Marine safety, Navigation (water), Reporting and recordkeeping requirements, Security measures, Waterways.

33 CFR Part 169

Endangered and threatened species, Marine animals, Navigation (water), Radio, Reporting and recordkeeping requirements, Vessels, Water pollution control.

For the reasons discussed in the preamble, the Coast Guard amends 33 CFR parts 1, 25, 66, 70, 72, 100, 110, 133, 135, 136, 137, 138, 155, 157, 161, 165, and 169 as follows:

Title 33—Navigation and Navigable Waters

PART 1—GENERAL PROVISIONS

Subpart 1.05—Rulemaking

1. The authority citation for subpart 1.05 continues to read as follows:

Authority: 5 U.S.C. 552, 553, App. 2; 14 U.S.C. 2, 631, 632, and 633; 33 U.S.C. 471, 499; 49 U.S.C. 101, 322; Department of Homeland Security Delegation No. 0170.1.

2. In § 1.05-1—

a. Revise paragraphs (e)(1) introductory text and (f) as set out below.

b. Add new paragraphs (e)(1)(vi) and (i) to read as set out below.

§ 1.05-1 Delegation of rulemaking authority.

* * * * *

(e)(1) The Commandant has redelegated to the Coast Guard District Commanders, with the reservation that this authority must not be further redelegated except as specified in paragraph (i) below, the authority to issue regulations pertaining to the following:

* * * * *

(vi) The establishment of special local regulations.

* * * * *

(f) Except for those matters specified in paragraph (c) of this section, the Commandant has redelegated to Coast Guard Captains of the Port, with the reservation that this authority must not be further redelegated, the authority to establish safety and security zones.

* * * * *

(i) The Commandant has redelegated to the Coast Guard District Commanders the authority to redelegate in writing to the Captains of the Port (COTP), with the reservation that this authority must not be further redelegated, the authority to issue such special local regulations as the COTP deems necessary to ensure safety of life on the navigable waters immediately prior to, during, and immediately after regattas and marine parades.

PART 25—CLAIMS

3. The authority citation in part 25 continues to read as follows:

Authority: 14 U.S.C. 633, 49 CFR 1.45(a); 49 CFR 1.45(b); 49 CFR 1.46(b), unless otherwise noted.

§ 25.111 [Amended]

4. Revise § 25.211(b) introductory text to read as follows:

§ 25.111 Action by a claimant.

* * * * *

(b) Presentation. Whenever possible, the claim must be presented to the Coast Guard Legal Service Command, Claims Division (LSC-5), located at 300 East Main Street, Suite 400, Norfolk, VA 23510-9100. If that is not possible, the claim may also be presented to:

* * * * *

PART 66—PRIVATE AIDS TO NAVIGATION

5. The authority citation for part 66 continues to read as follows:

Authority: 14 U.S.C. 83, 84, 85; 43 U.S.C. 1333; Pub. L. 107-296, 116 Stat. 2135; Department of Homeland Security Delegation No. 0170.1.

6. Revise § 66.01-1(a) to read as follows:

§ 66.01-1 Basic provisions.

(a) The Uniform State Waterway Marking System's (USWMS) aids to navigation provisions for marking channels and obstructions (see § 66.10-15 in this part) may be used in those navigable waters of the U.S. that have been designated as state waters for private aids to navigation and in those internal waters that are non-navigable waters of the U.S. All other provisions for the use of regulatory markers and other aids to navigation must be in accordance with United States Aid to Navigation System, described in part 62 of this subchapter.

* * * * *

PART 70—INTERFERENCE WITH OR DAMAGE TO AIDS TO NAVIGATION

7. The authority citation for part 70 continues to read as follows:

Authority: Secs. 14, 16, 30 Stat. 1152, 1153; secs. 84, 86, 92, 633, 642, 63 Stat. 500, 501, 503, 545, 547 (33 U.S.C. 408, 411, 412: 14 U.S.C. 84, 86, 92, 633, 642).

§ 70.05-5 [Amended]

8. In § 70.05-5, remove the phrase “not exceeding $2,500 or less than $500” and add, in its place, the phrase “of up to $25,000 per day”.

PART 72—MARINE INFORMATION

9. The authority citation for part 72 continues to read as follows:

Authority: 14 U.S.C. 85, 633; 43 U.S.C. 1333; Department of Homeland Security Delegation No. 0170.1.

§ 72.01-10 [Amended]

10. In § 72.01-10(a)(1), remove the phrase “National Imagery and Mapping Agency” and add, in its place, the phrase “National Geospatial-Intelligence Agency”.

§ 72.01-25 [Amended]

11. In § 72.01-25(a), remove the phrase “National Imagery and Mapping Agency” and add, in its place, the phrase “National Geospatial-Intelligence Agency”.

PART 100—SAFETY OF LIFE ON NAVIGABLE WATERS

12. The authority citation for part 100 continues to read as follows:

Authority: 33 U.S.C. 1233.

13. Revise § 100.35 to read as follows:

§ 100.35 Special local regulations.

(a) The Commander of a Coast Guard District or Captain of the Port (COTP) as authorized by 33 CFR 1.05-1(i), after approving plans for the holding of a regatta or marine parade within his or her district or zone, is authorized to promulgate such special local regulations as he or she deems necessary to insure safety of life on the navigable waters immediately prior to, during, and immediately after the approved regatta or marine parade. Such regulations may include a restriction on, or control of, the movement of vessels through a specified area immediately prior to, during, and immediately after the regatta or marine parade.

(b) The Commander of a Coast Guard District or COTP as authorized by 33 CFR 1.05-1(i), after approving plans for the holding of a regatta or marine parade upon the navigable waters within his or her district or zone, and promulgating special regulations thereto, must give the public full and adequate notice of the dates of the regatta or marine parade, together with full and complete information of the special local regulations, if there be such. Such notice should be published in the local notices to mariners.

(c) The special local regulations referred to in paragraph (a) of this section, when issued and published by the Commander of a Coast Guard District or COTP as authorized by 33 CFR 1.05-1(i), must have the status of regulations issued pursuant to the provisions of section 1 of the act of April 28, 1908, as amended (33 U.S.C. 1233).

§ 100.114 [Amended]

14. In § 100.114—

a. In paragraph (a), remove the word “year” and add, in its place, the word “yard”.

b. In the Fireworks Display Table, remove table entries Massachusetts 6.3 and Massachusetts 7.1.

c. Redesignate Fireworks Display Table entries 7.2 through 7.42 as the new 7.1 through 7.41 respectively.

§ 100.906 [Amended]

15. In § 100.906(c), remove the phrase “August 1st” and add, in its place, the phrase “the Tuesday before the first Saturday in August”.

PART 110—ANCHORAGE REGULATIONS

16. The authority citation for part 110 continues to read as follows:

Authority: 33 U.S.C. 471, 1221 through 1236, 2030, 2035, and 2071; 33 CFR 1.05-1; Department of Homeland Security Delegation No. 0170.1.

17. Revise § 110.25 to read as follows:

§ 110.25 Salem Sound, Mass.

(a) Beverly Harbor, north of Salem Neck, Salem, MA. A line extending from the northerly end of the Salem Willows Yacht Club House 360 yards bearing 281° true to position latitude 42°32′14.3″ N., longitude 70°52′24.17″ W.; thence north 275 yards to Monument Bar Beacon thence 540 yards bearing 080° to position latitude 42°32′25.3″ N., longitude 70°52′2.1″ W., thence 365 yards bearing 175° to position latitude 42°32′14.3″ N., longitude 70°52′1.1″ W.; thence 237° to the shore. [NAD83]

(b) Bass River. All of the area upstream of the highway bridge (Popes Bridge) outside of the dredged channel.

(c) South Channel. Bounded by a line commencing at the northern most point of Peach's Point at position latitude 42°31′08.6″ N., longitude 70°50′32.8″ W.; thence westerly to a point, at position latitude 42°31′21.9″ N., longitude 70°51′15.1″ W. off Fluen Point; thence westerly to a point at latitude 42°31′19.3″ N., longitude 70°51′47.4″ W. off Naugus Head; thence southwesterly to a point at latitude 42°31′00.3″ N., longitude 70°51′16.6″ W. east of Folger Point; thence to a point at latitude 42°30′38.3″ N., longitude 70°52′34.6″ W.; thence easterly to a point on Long Point at latitude 42°30′52.6″ N., longitude 70°53′05″ W. The areas will be principally for use by yachts and other recreational craft. Temporary floats or buoys for marking anchors will be allowed in the areas but fixed piles or stakes may not be placed. The anchoring of vessels, the placing of moorings, and the maintenance of fairways will be under the jurisdiction of the local Harbor Master.

(d) Beverly and Mackerel Coves, north side of Beverly Harbor. The water area enclosed by a line commencing at the southernmost point of Curtis Point in Beverly; thence bearing 238°, 1,400 yards to latitude 42°32′29.7″ N., 70°51′32.1″ W.; thence 284°, 1,475 yards to the western shoreline of Mackerel Cove; thence north northeasterly to the point of beginning.

(e) Collins Cove, Salem, MA. The water area enclosed by a line beginning at Monument Bar Beacon; thence 242°, 580 yards to latitude 42°32′14.5″ N., longitude 70°52′46.3″ W.; thence 284°, 220 yards to latitude 42°32′16″ N., longitude 70°52′55″ W.; thence 231°, 525 yards to a point on the shoreline; thence following the shoreline and the western boundary of the special anchorage area as described in 33 CFR 110.25(a) to the point of beginning.

(f) Marblehead Harbor, Marblehead, MA. The area comprises that portion of the harbor lying between the extreme low water line and southwestward of a line bearing 336° from Marblehead Neck Light to a point on Peach Point at latitude 42°31′03″ N., longitude 70°50′30″ W.

Note: The area is principally for use by yachts and other recreational craft. Temporary floats or buoys for marking anchors are allowed. Fixed mooring piles or stakes are prohibited. All moorings must be so that no vessel, when anchored, will at any time extend beyond the limits of the area. The anchoring of vessels and the placing of temporary moorings are under the jurisdiction and at the direction of the local harbormaster.

18. Add a new § 110.27 to read as follows:

§ 110.27 Lynn Harbor in Broad Sound, Mass.

North of a line bearing 244° from the tower of the Metropolitan District Building, extending from the shore to a point 100 feet from the east limit of the channel; east of a line bearing 358°, extending thence to a point 100 feet east of the northeast corner of the turning basin; south of a line bearing 88°, extending thence to the shore; and south and west of the shoreline to its intersection with the south boundary.

19. Add a new § 110.29 to read as follows:

§ 110.29 Boston Inner Harbor, Mass.

(a) Vicinity of Pleasant Park Yacht Club, Winthrop. Southerly of a line bearing 276° from a point on the west side of Pleasant Street, Winthrop, 360 feet from the southwest corner of its intersection with Main Street; westerly of a line bearing 186° from a point on the south side of Main Street 140 feet from the southwest corner of its intersection with Pleasant Street; northerly of a line bearing 256° from a point on the west side of Pleasant Street 550 feet from the southwest corner of its intersection with Main Street and easterly of a line bearing 182° from a point on the south side of Main Street 640 feet from the southwest corner of its intersection with Pleasant Street.

(b) Mystic River, east side of Tobin Bridge. Beginning at a line running from a point on the Tobin Bridge at latitude 42°23′08.5″ N. 071°02′48.2″ W. to a point at latitude 42°23′06.4″ N. 071°02′43.7″ W.; thence northwest to a point at latitude 42°23′09.1″ N. 071°02′43.2″ W. along the shoreline to the western side of Tobin Bridge, thence to the point of origin.

(c) Mystic River, west side of Tobin Bridge. Beginning at a line running from a point on the Tobin Bridge at latitude 42°23′08.8″ N. 071°02′48.6″ W. to a point at latitude 42°23′10.5″ N. 071°05′52″ W.; thence northwest to the southeasterly corner of the pier at latitude 42°23′13.4″ N. 071°02′57.1″ W. along the pier to the shoreline to the eastern side of Tobin Bridge, thence to the point of origin.

(d) Boston Inner Harbor A. (1) The waters of the western side of Boston Inner Harbor north of the entrance to the Fort Point Channel bound by the following points beginning at latitude 42°21′32″ N., longitude 071°02′50″ W; thence to latitude 42°21′33″ N., longitude 071°02′44″ W.; thence to latitude 42°21′26″ N., longitude 071°02′36″ W.; thence to latitude 42°21′26″ N., longitude 071°02′53″ W.; thence to point of origin. [NAD83].

(2) The area is principally for use by yachts and other recreational craft. Temporary floats or buoys for marking anchors will be allowed. Fixed mooring piles or stakes are prohibited. The anchoring of vessels and placing of temporary moorings will be under the jurisdiction, and at the discretion of the Harbormaster, City of Boston. All moorings must be so placed that no vessel, when moored, will at any time extend beyond the limits of the area.

Note to paragraph (d): Administration of Special Anchorage Area is exercised by the Harbormaster, City of Boston, pursuant to local ordinances. The City of Boston will install and maintain suitable navigational aids to mark the limits of Special Anchorage areas.

20. Revise § 110.30 to read as follows:

§ 110.30 Boston Harbor, Mass.

(a) Vicinity of South Boston Yacht Club, South Boston. Northerly of a line bearing 96° from the stack of the heating plant of the Boston Housing Authority in South Boston; easterly of a line bearing 5° from the west shaft of the tunnel of the Boston Main Drainage Pumping Station; southerly of the shoreline; and westerly of a line bearing 158° from the northeast corner of the iron fence marking the east boundary of the South Boston Yacht Club property.

(b) Dorchester Bay, in vicinity of Savin Hill Yacht Club. Northerly of a line bearing 64° from the stack of the old power plant of the Boston Elevated Railway on Freeport Street in Dorchester; westerly of a line bearing 163° from the stack of the Boston Main Drainage Pumping Station on the Cow Pasture in Dorchester; and southerly and easterly of the shoreline.

(c) Dorchester Bay, in vicinity of Dorchester Yacht Club. Eastward of a line bearing 21° from the stack located a short distance northwestward of the Dorchester Yacht Club; southward of a line bearing 294° from the southerly channel pier of the highway bridge; westward of the highway bridge and the shoreline; and northward of the shoreline.

(d) Quincy Bay, in vicinity of Wollaston and Squantum Yacht Clubs. Northwesterly of a line bearing 36°30′ from a point on the shore 2,600 feet easterly of the east side of the Wollaston Yacht Club landing; southwesterly of a line bearing 129°15′ from the water tank in Squantum; and southeasterly and northeasterly of the shoreline.

(e) Quincy Bay, in vicinity of Merrymount Yacht Club. South of a line starting from a point bearing 246°, 3,510 yards, from the stack of the pumping station on Nut Island, and extending thence 306° to the shore; west of a line bearing 190° from the aforesaid point to the shore; and north and east of the shoreline.

(f) Weymouth Fore River, in vicinity of Quincy Yacht Club. A line from the position latitude 42°16′46.9″ N. 70°57′12.5″ W. to position latitude 42°16′48.8″ N. 70°57′5.5″ W.; thence to latitude 42°16′31″ N. 70°56′23.1″ W. to the northerly end of Raccoon Island at position latitude 42°15′48″ N. 70°56′43.4″ W.; thence along the western shoreline of Raccoon Island to the point latitude 42°15′46.4″ N. 70°56′55.4″ W.; thence to latitude 42°15′43″ N. 70°57′5.8″ W.; thence along the shoreline to the point of origin. [NAD83]

(g) Weymouth Fore River, in vicinity of Wessagussett Yacht Club. Southwesterly of a line bearing 117° from channel light “4”; southeasterly of a line 150 feet from and parallel to the meandering easterly limit of the dredged channel; easterly of a line bearing 188° from the eastern extremity of Rock Island Head; and northwesterly of the shoreline.

(h) Weymouth Fore River, in the vicinity of Gull Point (PT). All of the waters bound by the following points beginning at latitude 42°15′05″ N., longitude 70°57′26″ W.; thence to latitude 42°15′00″ N., longitude 70°57′26″ W.; thence to latitude 42°15′15″ N., longitude 70°56′50″ W.; thence to latitude 42°15′18″ N., longitude 70°56′50″ W.; thence to the point of the beginning. [NAD83]

Note to paragraph (h): The area is principally for use by recreational craft. All anchoring in the area will be under the supervision of the local harbor master or such other authority as may be designated by the authorities of the Town of Weymouth, Massachusetts. All moorings are to be so placed that no moored vessel will extend beyond the limit of the anchorage area.

(i) Weymouth Back River, in vicinity of Eastern Neck. The cove on the north side of the river lying northerly of a line bearing 264°30′ from the southwesterly corner of the American Agricultural Chemical Company's wharf (Bradley's Wharf) to the shore of Eastern Neck, about 2,200 feet distant.

(j) Area No. 1 in Allerton Harbor. That area north of Spinnaker Island beginning at latitude 42°18′15.3″ N. 70°53′44.1″ W.; thence due east to latitude 42°18′15.3″ N. longitude 70°53′27.6″ W.; thence due south to latitude 42°18′07.8″ N. longitude 70°53′27.6″ W.; thence due west to latitude 42°18′07.8″ N. longitude 70°53′44.1″ W.; thence due north to the point of beginning. [NAD83]

(k) Area No. 2 in Hull Bay. That area south of Hog Island beginning at latitude 42°17′50.8″ N. longitude 70°54′05.1″ W.; thence due east to latitude 42°17′50.8″ N. longitude 70°53′27.6″ W.; thence due south to latitude 42°17′30.3″ N. longitude 70°53′27.6″ W.; thence due west to latitude 42°17′30.3″ N. longitude 70°54′5.1″ W.; thence due north to the point of beginning. [NAD83]

(l) Area No. 3 in Hull Bay. That area north of Bumkin Island beginning at position latitude 42°17′22.3″ N. longitude 70°54′5.1″ W.; thence due east to latitude 42°17′22.3″ N. longitude 70°53′15.6″ W.; thence due south to latitude 42°17′01.3″ N. longitude 70°53′15.6″ W.; thence due west to latitude 42°17′01.3″ N. longitude 70°54′5.17″ W.; thence due north to the point of beginning. [NAD83].

Note to paragraphs (j), (k), and (l): The areas will be principally for use by yachts and other recreational craft. Temporary floats or buoys for marking anchors will be allowed. Fixed mooring piles or stakes are prohibited. The anchoring of vessels and the placing of temporary moorings is under the jurisdiction, and at the discretion, of the local Harbor Master, Hull, Mass.

(m) Hingham Harbor Area 1. Beginning at position latitude 42°15′39.3″ N. longitude 70°53′22.1″ W.; thence to latitude 42°15′53.8″ N. longitude 70°53′30.1″ W.; thence to latitude 42°15′56.3″ N. longitude 70°53′21.1″ W.; thence to latitude 42°15′42.3″ N. longitude 70°53′13.1″ W.; thence to point of beginning. [NAD83]

(n) Hingham Harbor Area 2. Beginning at position latitude 42°15′30.6″ N. longitude 70°53′0.5″ W.; thence to latitude 42°15′30.3″ N. longitude 70°53′11.6″ W.; thence to latitude 42°15′27.8″ N. longitude 70°53′16.1″ W.; thence to latitude 42°15′28.8″ N. longitude 70°53′29.1″ W.; thence to latitude 42°15′35.3″ N. longitude 70°53′32.1″ W.; thence to latitude 42°15′36.3″ N. longitude 70°53′34.6″ W.; thence to latitude 42°15′41.3″ N. longitude 70°53′32.6.5″ W.; thence to latitude 42°15′31.3″ N. longitude 70°53′26.1″ W.; thence to latitude 42°15′31.8″ N. longitude 70°53′01.1″ W.; thence to point of beginning. [NAD83]

(o) Hingham Harbor Area 3. Beginning at latitude 42°15′33.3″ N. longitude 70°52′59.6″ W.; thence to latitude 42°15′33.8″ N. longitude 70°53′17.1″ W.; thence to latitude 42°15′35.8″ N. longitude 70°53′00.1″ W.; thence to point of beginning. [NAD83]

(p) Hingham Harbor Area 4. Beginning at position latitude 42°14′47.3″ N. longitude 70°53′07.6″ W.; thence to latitude 42°14′48.8″ N. longitude 70°53′9.6″ W.; thence to latitude 42°14′54.3″ N. longitude 70°53′6.1″ W.; thence to latitude 42°14′56.9″ N. longitude 70°52′56.6″ W.; thence to point of beginning. [NAD83]

(q) Hingham Harbor Area 5. Beginning at position latitude 42°14′48.3″ N. longitude 70°52′55.1″ W.; thence to latitude 42°14′48.8″ N. longitude 70°53′0.1″ W.; thence to latitude 42°14′58.3″ N. longitude 70°52′49.1″ W.; thence to latitude 42°14′53.8″ N. longitude 70°52′48.1″ W.; thence to point of beginning. [NAD83]

Note to paragraphs (m), (n), (o), (p) and (q): The areas will be principally for use by yachts and other recreational craft. Temporary floats or buoys for marking anchors will be allowed in the areas but fixed piles or stakes may not be placed. The anchoring of vessels and the placing of moorings will be under the jurisdiction of the local Harbor Master.

21. Amend § 110.55 by revising paragraphs (d)(1) through (d)(3) to read as follows:

§ 110.155 Port of New York.

* * * * *

(d) Upper Bay—(1) Anchorage No. 20-A. (i) All waters bound by the following points: latitude 40°42′06.9″ N., longitude 074°02′18.0″ W.; thence to latitude 40°42′05.4″ N., longitude 074°01′56.9″ W.; thence to latitude 40°41′54.9″ N., longitude 074°01′57.7″ W.; thence to latitude 40°41′54.0″ N., longitude 074°02′12.0″ W.; thence to latitude 40°41′54.4″ N., longitude 074°02′11.7″ W.; thence to latitude 40°41′57.5″ N., longitude 074°02′07.5″ W.; thence to latitude 40°42′06.1″ N., longitude 074°02′19.1″ W.; thence to the point of origin (NAD 83).

(ii) See 33 CFR 110.155(d)(6), (d)(16), and (l).

(2) Anchorage No. 20-B. (i) All waters bound by the following points: latitude 40°41′46.2″ N., longitude 074°02′23.0″ W.; thence to latitude 40°41′42.4″ N., longitude 074°02′00.5″ W.; thence to latitude 40°41′35.7″ N., longitude 074°02′02.7″ W.; thence to latitude 40°41′30.3″ N., longitude 074°02′06.3″ W.; thence to latitude 40°41′41.9″ N., longitude 074°02′29.2″ W.; thence to the point of origin (NAD 83).

(ii) See 33 CFR 110.155(d)(6), (d)(16), and (l).

(3) Anchorage No. 20-C. (i) All waters bound by the following points: latitude 40°41′42.4″ N., longitude 074°02′41.5″ W.; thence to latitude 40°41′25.8″ N., longitude 074°02′09.2″ W.; thence to latitude 40°41′02.1″ N., longitude 074°02′24.7″ W.; thence to latitude 40°41′09.4″ N., longitude 074°02′40.0″ W.; thence to latitude 40°41′13.3″ N., longitude 074°02′41.5″ W.; thence to latitude 40°41′15.8″ N., longitude 074°02′32.6″ W.; thence to latitude 40°41′25.3″ N., longitude 074°02′29.1″ W.; thence to latitude 40°41′33.0″ N., longitude 074°02′44.5″ W.; thence to latitude 40°41′32.5″ N., longitude 074°02′48.8″ W.; thence to the point of origin (NAD 83).

(ii) See 33 CFR 110.155(d)(6), (d)(16), and (l).

* * * * *

PART 133—OIL SPILL LIABILITY TRUST FUND; STATE ACCESS

22. The authority citation for part 133 is revised to read as follows:

Authority: 33 U.S.C. 2712(a)(1)(B), 2712(d) and 2712(e); Sec. 1512 of the Homeland Security Act of 2002, Pub. L. 107-296, Title XV, Nov. 25, 2002, 116 Stat. 2310 (6 U.S.C. 552(d)); E.O. 12777, 56 FR 54757, 3 CFR, 1991 Comp., p. 351, as amended by E.O. 13286, 68 FR 10619, 3 CFR, 2004 Comp., p. 166; Department of Homeland Security Delegation No. 0170.1., para. 2(80).

§ 133.3 [Amended]

23. In § 133.3(b), in the definition of “NPFC”, remove the address “U.S. Coast Guard National Pollution Funds Center, 4200 Wilson Boulevard, Suite 1000, Arlington, Virginia 22203-1804” and add, in its place, the address, “Director National Pollution Funds Center, NPFC MS 7100, U.S. Coast Guard, 4200 Wilson Blvd., Suite 1000, Arlington, VA 20598-7100”.

§ 133.25 [Amended]

24. In § 133.25(c), remove the address “Chief, Case Management Division, National Pollution Funds Center, Suite 1000, 4200 Wilson Boulevard, Arlington, Virginia 22203-1804” and add, in its place, the address, “Director National Pollution Funds Center, NPFC CM, MS 7100, U.S. Coast Guard, 4200 Wilson Blvd., Suite 1000, Arlington, VA 20598-7100”.

PART 135—OFFSHORE OIL POLLUTION COMPENSATION FUND

25. The authority citation for part 135 continues to read as follows:

Authority: 33 U.S.C. 2701-2719; E.O. 12777, 56 FR 54757; Department of Homeland Security Delegation No. 0170.1, para. 2(80).

§ 135.9 [Amended]

26. In § 135.9, remove the address “U.S. Coast Guard National Pollution Funds Center, 4200 Wilson Boulevard, Suite 1000, Arlington, VA 22203-1804” and add, in its place, the address, “Director National Pollution Funds Center, NPFC MS 7100, U.S. Coast Guard, 4200 Wilson Blvd., Suite 1000, Arlington, VA 20598-7100”.

PART 136—OIL SPILL LIABILITY TRUST FUND; CLAIMS PROCEDURES; DESIGNATION OF SOURCE; AND ADVERTISEMENT

27. The authority citation for part 136 is revised to read as follows:

Authority: 33 U.S.C. 2713(e) and 2714; Sec. 1512 of the Homeland Security Act of 2002, Pub. L. 107-296, Title XV, Nov. 25, 2002, 116 Stat. 2310 (6 U.S.C. 552(d)); E.O. 12777, 56 FR 54757, 3 CFR, 1991 Comp., p. 351, as amended by E.O. 13286, 68 FR 10619, 3 CFR, 2004 Comp., p.166; Department of Homeland Security Delegation No. 0170.1, para. 2(80).

§ 136.3 [Amended]

28. In § 136.3 remove “Director, National Pollution Funds Center, suite 1000, 4200 Wilson Boulevard, Arlington, Virginia 22203-1804, (703) 235-4756.” and add, in its place, “Director National Pollution Funds Center, NPFC MS 7100, U.S. Coast Guard, 4200 Wilson Blvd., Suite 1000, Arlington, VA 20598-7100, (800) 280-7118”.

§ 136.5 [Amended]

29. In § 136.5(b), in the definition of NPFC, remove the address “U.S. Coast Guard, National Pollution Funds Center, suite 1000, 4200 Wilson Boulevard, Arlington, Virginia 22203-1804” and add, in its place, the address, “Director National Pollution Funds Center, NPFC MS 7100, U.S. Coast Guard, 4200 Wilson Blvd., Suite 1000, Arlington, VA 20598-7100”.

§ 136.101 [Amended]

30. In § 136.101(b), remove the address “National Pollution Funds Center, suite 1000, 4200 Wilson Boulevard, Arlington, Virginia 22203-1804” and add, in its place, the address, “Director National Pollution Funds Center, NPFC MS 7100, U.S. Coast Guard, 4200 Wilson Blvd., Suite 1000, Arlington, VA 20598-7100”.

PART 137—OIL SPILL LIABILITY: STANDARDS FOR CONDUCTING ALL APPROPRIATE INQUIRIES UNDER THE INNOCENT LAND-OWNER DEFENSE

31. The authority citation for part 137 is revised to read as follows:

Authority: 33 U.S.C. 2703(d)(4); Sec. 1512 of the Homeland Security Act of 2002, Pub. L. 107-296, Title XV, Nov. 25, 2002, 116 Stat. 2310 (6 U.S.C. 552(d)); Department of Homeland Security Delegation No. 14000.

32. Revise § 137.15 to read as follows:

§ 137.15 References: Where can I get a copy of the publication mentioned in this part?

Section 137.20 of this part refers to ASTM E 1527-05, Standard Practice for Environmental Site Assessments: Phase I Environmental Site Assessment Process. That document is available from ASTM International, 100 Barr Harbor Drive, P.O. Box C700, West Conshohocken, PA 19428-2959. It is also available for inspection at the Coast Guard National Pollution Funds Center, Law Library, 4200 Wilson Boulevard, Suite 1000, Arlington, VA.

PART 138—FINANCIAL RESPONSIBILITY FOR WATER POLLUTION (VESSELS) AND OPA 90 LIMITS OF LIABILITY (VESSELS AND DEEPWATER PORTS)

33. The authority citation for part 138 continues to read as follows:

Authority: 33 U.S.C. 2716, 2716a; 42 U.S.C. 9608, 9609; Sec. 1512 of the Homeland Security Act of 2002, Pub. L. 107-296, Title XV, Nov. 25, 2002, 116 Stat. 2310 (6 U.S.C. 552); E.O. 12580, Sec. 7(b), 3 CFR, 1987 Comp., p. 198; E.O. 12777, 3 CFR, 1991 Comp., p. 351; E.O. 13286, Sec. 89 (68 FR 10619, Feb. 28, 2003); Department of Homeland Security Delegation Nos. 0170.1 and 5110. Section 138.30 also issued under the authority of 46 U.S.C. 2103, 46 U.S.C. 14302.

§ 138.45 [Amended]

34. In § 138.45(a), remove the address “U.S. Coast Guard, National Pollution Funds Center (Cv), 4200 Wilson Boulevard, Suite 1000, Arlington, VA 22203-1804” and add, in its place, the address, “Director National Pollution Funds Center, NPFC CV MS 7100, U.S. Coast Guard, 4200 Wilson Blvd., Suite 1000, Arlington, VA 20598-7100”.

PART 155—OIL OR HAZARDOUS MATERIAL POLLUTION PREVENTION REGULATION FOR VESSELS

35. The authority citation for part 155 continues to read as follows:

Authority: 33 U.S.C. 1231, 1321(j); E.O. 11735, 3 CFR, 1971-1975 Comp., p. 793. Sections 155.100 through 155.130, 150.350 through 155.400, 155.430, 155.440, 155.470, 155.1030(j) and (k), and 155.1065(g) are also issued under 33 U.S.C. 1903(b). Sections 155.480, 155.490, 155.750(e), and 155.775 are also issued under 46 U.S.C. 3703. Section 155.490 also issued under section 4110(b) of Pub. L. 101-380. Sections 155.110-155.130, 155.350-155.400, 155.430, 155.440, 155.470, 155.1030 (j) and (k), and 155.1065(g) also issued under 33 U.S.C. 1903(b); and §§ 155.1110-155.1150 also issued under 33 U.S.C. 2735.

§ 155.1130 [Amended]

36. In § 155.1130(h), remove the phrase “§ 155.1050(l)” and add, in its place, the phrase “Subpart I of this part”.

PART 157-—RULES FOR THE PROTECTION OF THE MARINE ENVIRONMENT RELATING TO TANK VESSELS CARRYING OIL IN BULK

37. The authority citation for part 157 continues to read as follows:

Authority: 33 U.S.C. 1903; 46 U.S.C. 3703, 3703a (note); 49 CFR 1.46. Subparts G, H, and I are also issued under section 4115(b), Pub. L. 101-380, 104 Stat. 520; Pub. L. 104-55, 109 Stat. 546.

§ 157.22 [Amended]

38. In § 157.22, remove the phrase “Regulation 25A” and add, in its place, the phrase “Regulation 27”.

PART 161—VESSEL TRAFFIC MANAGEMENT

39. The authority citation for part 161 continues to read as follows:

Authority: 33 U.S.C. 1223, 1231; 46 U.S.C. 70114, 70119; Pub. L. 107-295, 116 Stat. 2064; Department of Homeland Security Delegation No. 0170.1.

§ 161.40 [Amended]

40. In § 161.40—

a. In paragraph (b), remove the phrase “Southern Pacific Railroad Bridge” and add, in its place, the phrase “Burlington Northern/Santa Fe Railroad Bridge”.

b. In Table 161.40(c), remove the phrase “South Pacific Railroad Bridge” and add, in its place, the phrase “Burlington Northern/Santa Fe Railroad Bridge”.

PART 165—REGULATED NAVIGATION AREAS AND LIMITED ACCESS AREAS

41. The authority citation for part 165 continues to read as follows:

Authority: 33 U.S.C. 1226, 1231; 46 U.S.C. Chapter 701, 3306, 3703; 50 U.S.C. 191, 195; 33 CFR 1.05-1(g), 6.04-1, 6.04-6, 160.5; Pub. L. 107-295, 116 Stat. 2064; Department of Homeland Security Delegation No. 0170.1.

§ 165.116 [Amended]

42. In § 165.116, remove paragraph (b) and redesignate paragraph (c) as paragraph (b).

§ 165.120 [Amended]

43. In § 165.120, revise paragraphs (a) and (b)(4) introductory text to read follows:

§ 165.120 Safety Zone: Chelsea River, Boston Inner Harbor, Boston, MA.

(a) Location. The following area is a safety zone: The waters of the Chelsea River, Boston Inner Harbor, for 100 yards upstream and downstream of the center of the Chelsea Street Draw span (in the approximate position of latitude 42°23′10.3″ N., longitude 71°01′21.2″ W.). [NAD83].

* * * * *

(b) * * *

(4) Restrictions when the Chelsea River channel is obstructed by vessel(s) moored at the Northeast Petroleum Terminal located downstream of the Chelsea Street Bridge on the Chelsea, MA side of the Chelsea River—hereafter referred to as the Jenny Dock (approximate position latitude 42°23′05.2″ N., longitude 71°01′35.8″ W.)—or the Mobile Oil Terminal located on the East Boston Side of the Chelsea River downstream of the Chelsea Street Bridge (approximate position latitude 42°23′04.9″ N., longitude 71°01′28.52″ W.): [NAD83].

* * * * *

§ 165.1407 [Amended]

44. In § 165.1407(c)(2), following the numbers “(808) 842-2600” add “and (808) 842-2601, fax (808) 842-2624”.

PART 169—SHIP REPORTING SYSTEMS

45. The authority citation for part 169 continues to read as follows:

Authority: 33 U.S.C. 1230(d), Department of Homeland Security Delegation No. 0170.1.

§ 169.1 [Amended]

46. In § 169.1, add a note at the end of the current section to read as follows:

§ 169.1 What is the purpose of this part?

* * * * *

Note to § 169.1: For ship reporting system requirements not established by the Coast Guard, see 50 CFR Part 404.

Dated: June 3, 2009.
Stefan G. Venckus,
Chief, Office of Regulations and Administrative Law, United States Coast Guard.

[FR Doc. E9-13370 Filed 6-9-09; 8:45 am]

BILLING CODE 4910-15-P